DEPARTMENT OF COMMERCE

International Trade Administration

[A-475-834]

Certain Carbon and Alloy Steel Cut-to-Length Plate From Italy: Notice of Court Decision Not in Harmony With the Results of Antidumping Duty Administrative Review; Notice of Amended Final Results

AGENCY: Enforcement and Compliance, International Trade Administration, Department of Commerce.

SUMMARY: On September 3, 2025, the U.S. Court of International Trade (CIT) issued its final judgment in Officine Tecnosider SRL v. United States, Court no. 23-00001, sustaining the U.S. Department of Commerce (Commerce)'s second remand results pertaining to the administrative review of the antidumping duty (AD) order on certain carbon and alloy steel cut-to-length plate (CTL Plate) from Italy covering the period May 1, 2020, through April 30, 2021. Commerce is notifying the public that the CIT's final judgment is not in harmony with Commerce's final results of the administrative review, and that Commerce is amending the final results with respect to the dumping margin assigned to Officine Tecnosider s.r.l. (OTS).

DATES: Applicable September 15, 2025.

FOR FURTHER INFORMATION CONTACT: Rebecca M. Janz, AD/CVD Operations, Office II, Enforcement and Compliance, International Trade Administration, U.S. Department of Commerce, 1401 Constitution Avenue NW, Washington, DC 20230; telephone: (202) 482-2972.

SUPPLEMENTARY INFORMATION:

Background

On December 8, 2022, Commerce published its Final Results in the 2020-2021 AD administrative review of CTL plate from Italy.¹ In the Final Results, Commerce determined to rely on OTS's reported annual cost of production (COP) data rather than applying the quarterly cost methodology.² OTS appealed Commerce's Final Results, and, on May 15, 2023, the CIT granted Commerce's request for a voluntary remand to reconsider whether to apply the quarterly cost methodology to OTS's cost data.³

¹ See Certain Carbon and Alloy Steel Cut-To-Length Plate from Italy: Final Results of Antidumping Duty Administrative Review and Final Determination of No Shipments; 2020-2021, 87 FR 75219 (December 8, 2022) (Final Results), and accompanying Issues and Decision Memorandum (IDM).

² Id. at Comment 7.

³ See Order Granting Unopposed Motion to Voluntarily Remand Case, Officine Tecnosider SRL v. United States, Court No. 23-00001 (CIT May 15, 2023).

In its first remand redetermination, issued in September 2023, Commerce determined it was appropriate to apply the quarterly cost methodology to OTS's COP data and recalculated OTS's weighted-average dumping margin.⁴ On September 17, 2023, the CIT remanded for a second time, instructing Commerce to explain why Commerce's test for applying a quarterly cost methodology is adequate to address a situation where there is only one quarter of U.S. sales data.⁵

⁴ See Final Results of Redetermination Pursuant to Court Remand, Officine Tecnosider SRL v. United States, Court No. 23-00001 (CIT May 15, 2023), dated September 11, 2023.

⁵ See Officine Tecnosider SRL v. United States, Slip Op. No. 24-102, Court No. 23-00001 (CIT September 17, 2024).

In its second remand redetermination, issued in January 2025, Commerce continued to find it appropriate to apply the quarterly cost methodology to OTS's COP data and provided additional analysis and explanation of this finding.⁶ The CIT sustained Commerce's Second Redetermination.⁷

⁶ See Final Results of Second Redetermination Pursuant to Court Remand, Officine Tecnosider SRL v. United States, Slip. Op. 24-102 (CIT September 17, 2024), dated January 15, 2025 (Second Redetermination).

⁷ See Officine Tecnosider SRL v. United States, Slip Op. No. 25-116, Court No. 23-00001 (CIT September 3, 2025).

Timken Notice

In its decision in Timken,⁸ as clarified by Diamond Sawblades,⁹ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's September 3, 2025 judgment constitutes a final decision of the CIT that is not in harmony with Commerce's Final Results. Thus, this notice is published in fulfillment of the publication requirements of Timken.

⁸ See Timken Co. v. United States, 893 F.2d 337 (Fed. Cir. 1990) (Timken).

⁹ See Diamond Sawblades Manufacturers Coalition v. United States, 626 F.3d 1374 (Fed. Cir. 2010) (Diamond Sawblades).

Amended Final Results

Because there is now a final court judgment, Commerce is amending its Final Results with respect to OTS as follows:

Producer/exporter | Weighted- average dumping margin (percent)
Officine Tecnosider s.r.l | 0.00

Cash Deposit Requirements

Because OTS has a superseding cash deposit rate, i.e., there have been final results published in a subsequent administrative review, we will not issue revised cash deposit instructions to U.S. Customs and Border Protection (CBP). This notice will not affect the current cash deposit rate.

Liquidation of Suspended Entries

At this time, Commerce remains enjoined by CIT order from liquidating entries that were produced and exported by OTS and were entered, or withdrawn from warehouse, for consumption during the period May 1, 2020, through April 30, 2021. These entries will remain enjoined pursuant to the terms of the injunction during the pendency of any appeals process. In the event the CIT's ruling is not appealed, or, if appealed, upheld by a final and conclusive court decision, Commerce intends to instruct CBP to liquidate these entries without regard to dumping duties.¹⁰

¹⁰ See Antidumping Proceedings: Calculation of the Weighted-Average Dumping Margin and Assessment Rate in Certain Antidumping Proceedings: Final Modification, 77 FR 8101, 8102-03 (February 14, 2012); see also 19 CFR 351.106(c)(2).

Notification to Interested Parties

This notice is issued and published in accordance with sections 516A(c) and (e) and 777(i)(1) of the Act.

Dated: September 10, 2025.
Christopher Abbott,
Deputy Assistant Secretary for Policy and Negotiations, performing the non-exclusive functions and duties of the Assistant Secretary for Enforcement and Compliance.

[FR Doc. 2025-17779 Filed 9-12-25; 8:45 am]

BILLING CODE 3510-DS-P